DEPARTMENT OF COMMERCE

International Trade Administration

[A-821-802]

Continuation of Suspended Antidumping Duty Investigation: Uranium From Russia

AGENCY: Import Administration, International Trade Administration, Department of Commerce.

ACTION: Notice of continuation of suspended antidumping duty investigation: uranium from Russia

SUMMARY: On July 5, 2000, the Department of Commerce (“the Department”), pursuant to sections 751(c) and 752 of the Tariff Act of 1930, as amended (“the Act”), determined that termination of the agreement suspending the antidumping duty investigation (the “Agreement”) on uranium from Russia, is likely to lead to continuation or recurrence of dumping. See Certain Uranium from Russia; Final Results of Sunset Review of Suspended Antidumping Duty Investigation (“Final Results”), 65 FR 41439 (July 5, 2000). On August 9, 2000, the International Trade Commission (“the Commission”), pursuant to section 751(c) of the Act, determined that termination of the Agreement on uranium from Russia would be likely to lead to continuation or recurrence of material injury to an industry in the United States within a reasonably foreseeable time. See Uranium from Russia, Ukraine, and Uzbekistan (“ITC Final Results”), 65 FR 48734 (August 9, 2000). Therefore, pursuant to 19 CFR 351.218(f)(4), the Department is publishing this notice of the continuation of the Agreement on uranium from Russia.

Effective Date: August 22, 2000.

For Further Information Contact: Kathryn B. McCormick or James P. Maeder, Office of Policy for Import Administration, International Trade Administration, U.S. Department of Commerce, 14th Street and Constitution Ave., NW, Washington, DC 20230; telephone: (202) 482-1930 or (202) 482-3330, respectively.

SUPPLEMENTARY INFORMATION

Background:

On August 2, 1999, the Department initiated, and the Commission instituted, sunset reviews (64 FR 67247 and 64 FR 41965, respectively) of the Agreement on uranium from Russia, pursuant to section 751(c) of the Act. As a result of its review, the Department found on July 5, 2000 that termination of the Agreement on uranium from Russia would likely lead to continuation or recurrence of dumping and notified the Commission of the magnitude of the margin likely to prevail were the Agreement terminated. See Final Results (65 FR 41439).

On August 9, 2000, the Commission determined, pursuant to section 751(c) of the Act, that termination of the Agreement on uranium from Russia would be likely to lead to continuation or recurrence of material injury to an industry in the United States within a reasonably foreseeable time. See ITC Final Results (65 FR 48734), and USITC Publication 3334 (August 2000), Investigation No. 731-TA-539-C, E and F (Review).

Scope

According to the June 3, 1992, preliminary determination, the suspended investigation of uranium from Russia encompassed one class or kind of merchandise.¹ The merchandise included natural uranium in the form of uranium ores and concentrates; natural uranium metal and natural uranium compounds; alloys, dispersions (including cermets), ceramic products, and mixtures containing natural uranium or natural uranium compound; uranium enriched in U ²³⁵ and its compounds; alloys dispersions (including cermets), ceramic products and mixtures containing uranium enriched in U ²³⁵ or compounds or uranium enriched in U ²³⁵; and any other forms of uranium within the same class or kind. The uranium subject to these investigations was provided for under subheadings 2612.10.00.00, 2844.10.10.00, 2844.10.20.10, 2844.10.20.25, 2844.10.20.50, 2844.10.20.55, 2844.10.50, 2844.20.00.10, 2844.20.00.20, 2844.20.00.30, and 2844.20.00.50 of the Harmonized Tariff Schedule of the United States (“HTSUS”).² In addition, the Department preliminarily determined that highly-enriched uranium (“HEU”) (uranium enriched to 20 percent or greater in the isotope uranium-235) is not within the scope of the investigation.

¹ The Department based its analysis of the comments on class or kind submitted during the proceeding and determined that the product under investigation constitutes a single class or kind of merchandise. The Department based its analysis on the “Diversified” criteria (see Diversified Products Corp. v. United States, 6 CIT 1555 (1983); see also Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23380, 23382 (June 3, 1992).

² See Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23380, 23381 (June 3, 1992).

On October 30, 1992, the Department issued a suspension of the antidumping duty investigation of uranium from Russia and an amendment of the preliminary determination.³ The notice amended the scope of the investigation to include HEU.⁴ Imports of uranium ores and concentrates, natural uranium compounds, and all other forms of enriched uranium were classifiable under HTSUS subheadings 2612.10.00, 2844.10.20, 2844.20.00, respectively. Imports of natural uranium metal and forms of natural uranium other than compounds were classifiable under HTSUS subheadings 2844.10.10 and 2844.10.50.⁵

³ See Antidumping; Uranium from Kazakhstan, Kyrgyszstan, Russia, Tajikistan, Ukraine, and Uzbekistan; Suspension of Investigations and Amendment of Preliminary Determinations, 57 FR 49220 (October 30, 1992).

⁴ Id. at 49235.

⁵ Id.

In addition, Section III of the Agreement provides that uranium ore from Russia that is milled into U3O8 and/or converted into UF6 in another country prior to direct and/or indirect importation into the United States is considered uranium from Russia and is subject to the terms of the Agreement, regardless of any subsequent modification or blending.⁶ Uranium enriched in U²³⁵ in another country prior to direct and/or indirect importation into the United States is not considered uranium from the Russian Federation and is not subject to the terms of the Agreement.

⁶ Id. at 49235.

In addition, Section M.1 of the Agreement in no way prevents the Russian Federation from selling directly or indirectly any or all of the HEU in existence at the time of the signing of the agreement and/or LEU produced in Russia from HEU to the Department of Energy (“DOE”), its governmental successor, its contractors, or U.S. private parties acting in association with DOE or the USEC and in a manner not inconsistent with the Agreement between the United States of America and the Russian Federation concerning the disposition of HEU resulting from the dismantlement of nuclear weapons in Russia.

There were three amendments to the Agreement on Russian uranium. In particular, the second amendment to the Russian suspension agreement, on November 4, 1996, permitted, among other things, the sale in the United States of Russian low-enriched uranium (“LEU”) derived from HEU and included within the scope of the suspension agreement Russian uranium which has been enriched in a third country prior to importation into the United States. ⁷ According to the amendment, these modifications remained in effect until October 3, 1998. ⁸

⁷ See Amendments to the Agreement Suspending the Antidumping Investigation on Uranium from the Russian Federation, 61 FR 56665 (November 4, 1996).

⁸ Id. 61 FR at 56667.

On August 6, 1999, USEC, Inc. and its subsidiary, United States Enrichment Corporation, requested that the Department issue a scope ruling to clarify that enriched uranium located in Kazakstan at the time of the dissolution of the Soviet Union is within the scope of the Russian suspension agreement. Respondent interested parties filed an opposition to the scope request on August 27, 1999. That scope request is pending before the Department at this time.

Determination:

As a result of the determinations by the Department and the Commission that termination of the Agreement on uranium from Russia would be likely to lead to continuation or recurrence of dumping and material injury to an industry in the United States, pursuant to section 751(d)(2) of the Act, the Department hereby orders the continuation of the Agreement on uranium from Russia. The Department will instruct the U.S. Customs Service to continue to collect antidumping duty deposits at the rates in effect at the time of entry for all imports of subject merchandise. The effective date of continuation of this Agreement will be the date of publication in the Federal Register of this Notice of Continuation. Pursuant to section 751(c)(2) and 751(c)(6) of the Act, the Department intends to initiate the next five-year review of this Agreement not later than August 2005.

Dated: August 16, 2000.
Troy H. Cribb,
Acting Assistant Secretary for Import Administration.

[FR Doc. 00-21394 Filed 8-21-00; 8:45 am]

BILLING CODE 3510-DS-P